DEPARTMENT OF THE INTERIOR

Bureau of Reclamation

[RR04073000, XXXR4081X3, RX.05940913.7000000]

Notice of Public Meeting for the Glen Canyon Dam Adaptive Management Work Group

AGENCY: Bureau of Reclamation, Interior.

ACTION: Notice.

SUMMARY: The Glen Canyon Dam Adaptive Management Work Group (AMWG) makes recommendations to the Secretary of the Interior concerning Glen Canyon Dam operations and other management actions to protect resources downstream of Glen Canyon Dam, consistent with the Grand Canyon Protection Act. The AMWG meets two to three times a year.

DATES: The meeting will be held on Wednesday, February 25, 2015, from approximately 9:30 a.m. to approximately 5:30 p.m.; and Thursday, February 26, 2015, from approximately 8:00 a.m. to approximately 3 p.m.

ADDRESSES: The meeting will be held at the Red Lion Hotel, 161 West 600 South, Wasatch Ballroom, Salt Lake City, Utah 84101.

FOR FURTHER INFORMATION CONTACT: Glen Knowles, Bureau of Reclamation, telephone (801) 524-3781; facsimile (801) 524-3807; email at gknowles@usbr.gov.

SUPPLEMENTARY INFORMATION: The Glen Canyon Dam Adaptive Management Program (GCDAMP) was implemented as a result of the Record of Decision on the Operation of Glen Canyon Dam Final Environmental Impact Statement to comply with consultation requirements of the Grand Canyon Protection Act (Pub. L. 102-575) of 1992. The GCDAMP includes a Federal advisory committee, the AMWG, a technical work group (TWG), a Grand Canyon Monitoring and Research Center, and independent review panels. The TWG is a subcommittee of the AMWG and provides technical advice and recommendations to the AMWG.

Agenda: The primary purpose of the meeting will be to discuss preliminary results from the November 2014 High Flow Experiment. The AMWG will receive updates on: (1) The Long-Term Experimental and Management Plan Environmental Impact Statement, (2) current basin hydrology and drought impacts, (3) reports from the Glen Canyon Dam Tribal and Federal Liaisons, and (4) science results from Grand Canyon Monitoring and Research Center staff. The AMWG will also address other administrative and resource issues pertaining to the GCDAMP.

To view a copy of the agenda and documents related to the above meeting, please visit Reclamation's Web site at http://www.usbr.gov/uc/rm/amp/amwg/mtgs/15feb25. Time will be allowed at the meeting for any individual or organization wishing to make formal oral comments. To allow for full consideration of information by the AMWG members, written notice must be provided to Glen Knowles, Bureau of Reclamation, Upper Colorado Regional Office, 125 South State Street, Room 8100, Salt Lake City, Utah 84138; telephone (801) 524-3781; facsimile (801) 524-3807; email at gknowles@usbr.gov, at least five (5) days prior to the meeting. Any written comments received will be provided to the AMWG members.

Public Disclosure of Comments

Before including your address, phone number, email address, or other personal identifying information in your comment, you should be aware that your entire comment—including your personal identifying information—may be made publicly available at any time. While you can ask us in your comment to withhold your personal identifying information from public review, we cannot guarantee that we will be able to do so.

Dated: December 17, 2014.
Glen Knowles,
Chief, Adaptive Management Work Group, Upper Colorado Regional Office, Salt Lake City, Utah.

[FR Doc. 2014-30913 Filed 1-5-15; 8:45 am]

BILLING CODE 4332-90-P